DEPARTMENT OF AGRICULTURE

Agricultural Marketing Service

7 CFR Part 185

[Document No. AMS-TM-10-0088; TM-08-07]

RIN 0581-AC83

Farmers' Market Promotion Program Regulation; Withdrawal of a Proposed Rule

AGENCY: Agricultural Marketing Service, USDA.

ACTION: Proposed rule; withdrawal.

SUMMARY: This document withdraws a proposed rule published in the Federal Register on January 19, 2011 to establish a regulation for the Agricultural Marketing Service's (AMS) Farmers' Market Promotion Program (FMPP). The FMPP is a competitive grant program that makes funds available to eligible entities for projects to establish, expand, and promote farmers markets, roadside stands, community-supported agriculture programs, agritourism activities, and other direct producer-to-consumer marketing opportunities. The proposed rule would have established eligibility and application requirements, the review and approval process, and grant administration procedures for the FMPP. Additionally, the proposed rule announced AMS's intent to request approval from the Office of Management and Budget (OMB) for a new information collection for the FMPP. AMS is consolidating the procedures for all of its grant programs, including the FMPP, into one regulation. Thus, a separate regulation for the FMPP is no longer needed and the 2011 proposed rule is withdrawn.

DATES: Effective August 19, 2015, the proposed rule published on January 19, 2011 (76 FR 3046) is withdrawn.

FOR FURTHER INFORMATION CONTACT: Trista Etzig, Grants Division Director, AMS Transportation and Marketing Program, 1400 Independence Avenue SW., Stop 0264, Washington, DC 20250-0264; Telephone: (202) 720-8356; Email: Trista.Etzig@ams.usda.gov.

SUPPLEMENTARY INFORMATION: The FMPP grant program is authorized under the Farmer-to-Consumer Direct Marketing Act of 1976 (7 U.S.C. 3001-3006) (1976 Act) and the amendment to the 1976 Act, the Farmers' Market Promotion Program (7 U.S.C. 3005).

This action withdraws a proposed rule published in the Federal Register on January 19, 2011 (76 FR 3046) to establish a regulation for AMS's FMPP. The FMPP is a competitive grant program that makes funds available to eligible entities for projects to establish, expand, and promote farmers markets, roadside stands, community-supported agriculture programs, agritourism activities, and other direct producer-to-consumer marketing opportunities. The proposed rule would have established eligibility and application requirements, the review and approval process, and grant administration procedures for the FMPP. Additionally, the proposed rule announced AMS's intent to request approval from the OMB for a new information collection for the FMPP.

During the comment period, January 19 through March 21, 2011, the U.S. Department of Agriculture received 11 timely comments. These comments may be viewed on the Internet at http://www.regulations.gov. One comment generally opposed the proposed rule and one duplicated a comment already submitted. Of the remaining nine comments received, seven addressed multiple sections of the proposed rule and the others provided recommendations regarding how to implement the FMPP program which were outside the scope of the proposed rule.

AMS is consolidating the procedures for all of its grant programs, including the FMPP, into one regulation. Thus, a separate regulation for the FMPP is no longer needed and the proposed rule published in the Federal Register on January 19, 2011 (76 FR 3046), is hereby withdrawn.

List of Subjects in 7 CFR Part 185

Farmers' Market Promotion Program, FMPP, FMPP guidelines, FMPP application requirements, FMPP voluntary narrative and budget forms, Confidentiality, FMPP grant agreement, and FMPP awardee grant acceptance terms and conditions.

Authority: 7 U.S.C. 3001-3006.

Dated: August 13, 2015.
Rex A. Barnes,
Associate Administrator, Agricultural Marketing Service.

[FR Doc. 2015-20384 Filed 8-17-15; 8:45 am]

BILLING CODE 3410-02-P